OFFICE OF SCIENCE AND TECHNOLOGY POLICY

Meeting of the R&D Investment Subcommittee of the President's Council of Advisors on Science and Technology

ACTION: Notice of open meeting.

SUMMARY: This notice announces that the Subcommittee on Federal Research and Development Investment and its National Benefits, of the President's Council of Advisors on Science and Technology (PCAST), will hold an open public forum on federal technology transfer mechanisms. The PCAST panel invites all interested persons to attend.

DATES AND PLACE: December 12, 2002, Washington, DC, beginning at 9:00 a.m. The meeting will be held in the RAND Washington Office, 1200 S. Hayes St., Arlington, VA, Room 4204. The location is accessible from the Pentagon City metro stop, or with parking at the Pentagon City shopping mall.

REGISTRATION AND FURTHER INFORMATION: Guests are requested to pre-register for this event by December 6. A Web site has been set up for information, agenda, and registration for this forum: http://www.rand.org/scitech/stpi/TechTransfer/. Information may also be obtained by emailing ttsubmit@rand.org or calling 703-413-1100 x5674.

Proposed Schedule and Agenda

The PCAST Subcommittee on Federal Research and Development (R&D) Investment and its National Benefits is scheduled to host an open forum on Thursday, December 12, 2002, at approximately 9:00 a.m., to discuss technology transfer of federally funded R&D. The forum is scheduled to begin with an overview of the subject of technology transfer from university, federal laboratory, and federally funded industry R&D. A roundtable discussion will follow at approximately 10:15 a.m. and “open session” is scheduled to begin approximately 1:00 p.m. A particular focus will be discussion of the goals of technology transfer, how technology transfer is measured, and best practices from a variety of perspectives. The forum will end at approximately 4:00 p.m.

Public Comments

The afternoon “open session” will be devoted to receipt of public comments on any aspect of technology transfer from federally funded R&D. To pre-register to make public comments or to submit brief written comments, please fill out the form located on the web http://www.rand.org/scitech/stpi/TechTransfer/. All those who have not submitted an overview prior to December 6, 2002 may speak following those who have. The time for public comments will be limited to no more than 3-5 minutes per person. Written comments are welcome at any time prior to or following the meeting. Written comments should be faxed to 703-414-4785 or mailed to Tech Transfer Forum, c/o RAND Science & Technology Policy Institute, MS-W7154, 1200 South Hayes Street, Arlington, VA 22202-5050. Please note that public seating for this meeting is limited and is available on a first-come, first-served basis.

FOR FURTHER INFORMATION CONTACT: For information regarding time, place and agenda, please refer to the website or call Gabrielle Bloom at 703-413-1100 x5674, prior to 3:00 p.m. on Friday, December 6, 2002.

SUPPLEMENTARY INFORMATION: The President's Council of Advisors on Science and Technology was established by Executive Order 13226, on September 30, 2001. The purpose of PCAST is to advise the President on matters of science and technology policy, and to assist the President's National Science and Technology Council in securing private sector participation in its activities. The Council members are distinguished individuals appointed by the President from non-Federal sectors. The PCAST is co-chaired by Dr. John H. Marburger, III, the Director of the Office of Science and Technology Policy, and by E. Floyd Kvamme, a Partner at Kleiner Perkins Caufield & Byers. PCAST established the R&D Investment subcommittee to explore various aspects of the federal R&D effort, including federal technology transfer programs, and to make draft findings and recommendations to the full PCAST.

Shana Dale,
Chief of Staff and General Counsel, Office of Science and Technology Policy.

[FR Doc. 02-30595 Filed 12-2-02; 8:45 am]

BILLING CODE 3170-01-P